DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of July 21 through August 1, 2008.

In order for an affirmative determination to be made for workers of a primary firm and a certification issued regarding eligibility to apply for worker adjustment assistance, each of the group eligibility requirements of Section 222(a) of the Act must be met.

I. Section (a)(2)(A)—all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B)—both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles is a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

None.

The following certifications have been issued. The requirements of Section 222(a)(2)(B) (shift in production) of the Trade Act have been met.

TA-W-63,698; Filtran, Inc., Ogdensburg, NY: July 7, 2007.

TA-W-63,692; Firewire Surfboards, San Diego, CA: July 3, 2007.

The following certifications have been issued. The requirements of Section 222(b) (supplier to a firm whose workers are certified eligible to apply for TAA) of the Trade Act have been met.

None.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-63,694; Klaussner Furniture Industries, Inc., Asheboro, NC: July 31, 2008.

TA-W-63,521; Daltile, Inc., A Subsidiary of Mohawk Industries, Dallas, TX: June 10, 2007.

TA-W-63,382; Stanley-National Manufacturing Co, National Sales Co., National Manufacturing, Sterling, IL: March 2, 2008.

TA-W-63,361; H & R 1871, LLC, Gardner, MA: May 7, 2007.

TA-W-63,691; NewPage Corporation, Niagara Mill, Niagara, WI: July 11, 2007.

TA-W-63,687; International Wood LLC, Weslaco, TX: July 11, 2007.

TA-W-63,672; ECD, Inc., Hillside, NJ: July 9, 2007.

TA-W-63,576; Matador Tool and Die, Inc., Grand Rapids, MI: June 19, 2007.

TA-W-63,555; Monarchy Holding Inc., Hurd Window and Door, Medford, WI: June 17, 2007.

TA-W-63,531; William Pinchbeck, Inc., dba Pinchbeck Roses, Guilford, CT: June 12, 2007.

TA-W-63,462; Carthage Fabrics, Inc., Carthage, NC: May 28, 2007.

TA-W-63,436; Ponderay Newsprint Company, Usk, WA: May 20, 2007.

TA-W-63,384; Robertshaw Controls Company, d/b/a Invensys Controls, West Plains, MO: May 1, 2007.

TA-W-63,276; Quip Industries, Inc., Carlyle, IL: April 28, 2007.

TA-W-62,849; NewPage Corporation, Formerly Known as Stora Enso North America, Stamford, CT: February 13, 2007.

TA-W-62,726; Metaldyne Corporation, QC Select, Farmington Hills, MI: January 17, 2007.

TA-W-63,705; Border Apparel Laundry, Ltd, 6969 B Industrial Avenue, El Paso, TX: July 15, 2007.

TA-W-63,482; Northridge Mills, Inc., San Fernando, CA: May 22, 2007.

The following certifications have been issued. The requirements of Section 222(a)(2)(B) (shift in production) and Section 246(a)(3)(A)(ii) of the Trade Act have been met.

TA-W-63,756; Avery Dennison Corporation, Paxar Americas, Inc & Brand, Foothills Temp, Lenoir, NC: May 19, 2008.

TA-W-63,741; KLA-Tencor Corporation, ADE Div., Superior, Adecco, Adecco Tech, MRI, Aerotek, Tucson, AZ: July 23, 2007.

TA-W-63,697; MTD Southwest, Inc., Plastics Department, Tempe, AZ: July 12, 2007.

TA-W-63,690; Burle Industries, Inc., A subsidiary of Photonis Holding SAS, Lancaster, PA: July 8, 2008.

TA-W-63,683; Numatech, Inc., A Subsidiary of Emerson Electric Company, Wixom, MI: July 10, 2007.

TA-W-63,682; Artistics Plating and Metal Finishing, Inc., Anaheim, CA: July 14, 2007.

TA-W-63,662; SteelCase Inc., City of Industry Plant, City of Industry, CA: July 9, 2007.

TA-W-63,660; Advance Transformer, Philips Lighting Division, Boscobel, WI: August 11, 2008.

TA-W-63,657; Delta Apparel, Inc., Maiden Division, Maiden, NC: July 4, 2007.

TA-W-63,650; Orcon Corporation, Union City, CA: June 27, 2007.

TA-W-63,602; Talport Industries, LLC, Yazoo City, MS: June 24, 2007.

TA-W-63,602A; Talport Industries, LLC, Hattiesburg, MS: June 24, 2007.

TA-W-63,591; Southwest Metal Finishing, Inc., New Berlin, WI: June 23, 2007.

TA-W-63,587; SAF Holland USA, Inc., A Division of SAF Holland, Inc., Holland, MI: June 10, 2007.

TA-W-63,503; 3 Day Blinds, Inc., Anaheim, CA: June 6, 2007.

TA-W-63,585; CAPS Group Acquisition, LLC, Black Dot Group, Crystal Lake, IL: June 23, 2007.

TA-W-63,684; Orbeco-Hellige, Inc., Orbeco Analytical Systems, Farmingdale, NY: July 13, 2007.

TA-W-63,670; American of Martinsville, GCA Temporary Staffing and Ameristaff, Martinsville, VA: July 9, 2007.

TA-W-63,644; Siemens Medical Solutions Diagnostics, Reagent Mfg. 5210 Pacific Concourse Drive, Los Angeles, CA: July 1, 2007.

TA-W-63,644A; Siemens Medical Solutions Diagnostics, Reagent Mfg. 5700 W. 96th Street Facility, Los Angeles, CA: July 1, 2007.

TA-W-63,282; Barco Medical Imaging Div., Operating and Shipping Group, Beaverton, OR: April 29, 2007.

The following certifications have been issued. The requirements of Section 222(b) (supplier to a firm whose workers are certified eligible to apply for TAA) and Section 246(a)(3)(A)(ii) of the Trade Act have been met.

TA-W-63,695; Tubular Metal Systems, LLC, A Subsidiary of Global Automotive Systems, LLC, Pinconning, MI: July 14, 2007.

TA-W-63,689; Brazeway, Inc., Adrian, MI: July 2, 2007.

TA-W-63,642; Enercon, Bonney Staffing and Kelley Services, Gray, ME: July 1, 2007.

TA-W-63,642A; Enercon, Bonney Staffing and Kelley Services, Auburn, ME: July 1, 2007.

TA-W-63,631; Hoover Universal, Subsidiary of Johnson Controls, West Carrollton Div, West Carrollton, OH: August 11, 2008.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-63,698; Filtran, Inc., Ogdensburg, NY.

TA-W-63,692; Firewire Surfboards, San Diego, CA.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

None.

The investigation revealed that criteria (a)(2)(A)(I.B.) (Sales or production, or both, did not decline) and (a)(2)(B)(II.B.) (shift in production to a foreign country) have not been met.

TA-W-63,272; Lifetime Brands, Inc., Product Development-Direct to Consumer Div., York, PA.

The investigation revealed that criteria (a)(2)(A)(I.C.) (increased imports) and (a)(2)(B)(II.B.) (shift in production to a foreign country) have not been met.

TA-W-63,717; Auxora, Inc., Baldwin Park, CA.

TA-W-63,713; Canterbury Printing Company of Rome Incorporated, Rome, NY.

TA-W-63,661; Samuel Aaron Inc., Long Island City, NY.

TA-W-63,609; C.A. Garner Veneer, Inc., Smithfield, KY.

TA-W-63,530; McNaughton Apparel Group, Inc., Moderate Sportsware Division, New York, NY.

TA-W-63,507; RF Micro Devices, Broomfield, CO.

TA-W-63,487; Occidental Chemical Corporation, Muscle Shoals, AL.

TA-W-63,467; JM Eagle, A Subsidiary of JM Manufacturing Company, Inc., Hastings, NE.

TA-W-63,383; WT Solutions, St. Johnsbury, VT.

TA-W-63,359; Mania Technologie Production Systems, Inc., South Windsor, CT.

TA-W-63,359A; Mania Technologie, Inc. (US), South Windsor, CT.

TA-W-63,295; Visteon Corporation Regional Assembly, Fuel Delivery—Climate Group Div., Concordia, MO.

TA-W-63,130; Sea Gull Lighting Products LLC, Riverside, NJ.

TA-W-63,192; Shiloh Industries, Liverpool Manufacturing Division, Valley City, OH.

TA-W-62,895; Siny Corp. d/b/a Monterey Mills, Janesville, WI.

The workers' firm does not produce an article as required for certification under Section 222 of the Trade Act of 1974.

TA-W-63,720; Alvan Motor Freight, Inc., Kalamazoo, MI.

TA-W-63,714; Publishers Circulation Fulfillment, Customer Care Center, Waltham, MA.

TA-W-63,693; Classic Components Corporation, Scottsdale, AZ.

TA-W-63,681; Invensys Controls/Ranco, Plain City, OH.

TA-W-63,678; Volex, Inc., VIS-US Division, Hickory, NC.

TA-W-63,665; University at Buffalo Foundation Inc., Millard Fillmore College, Buffalo, NY.

TA-W-63,664; WM. Wright Co., Wrights Factory Outlet, Fiskdale, MA.

TA-W-63,653; Chase Home Finance LLC, A Division of J P Morgan Chase & Co., Lexington, KY.

TA-W-63,643; Zafarana Enterprises, Inc., Lathrup Village, MI.

TA-W-63,309; Tache USA, Inc., Long Island City, NY.

The investigation revealed that criteria of Section 222(b)(2) has not been met. The workers' firm (or subdivision) is not a supplier to or a downstream producer for a firm whose workers were certified eligible to apply for TAA.

None.

I hereby certify that the aforementioned determinations were issued during the period of July 21 through August 1, 2008. Copies of these determinations are available for inspection in Room C-5311, U.S. Department of Labor, 200 Constitution Avenue, NW., Washington, DC 20210 during normal business hours or will be mailed to persons who write to the above address.

Dated: August 8, 2008.
Erin Fitzgerald,
Director, Division of Trade Adjustment Assistance.

[FR Doc. E8-18580 Filed 8-11-08; 8:45 am]

BILLING CODE 4510-FN-P